DEPARTMENT OF TRANSPORTATION

Federal Highway Administration

[Docket No. FHWA-2022-0020]

Agency Information Collection Activities: Request for Comments for a New Information Collection

AGENCY: Federal Highway Administration (FHWA), DOT.

ACTION: Notice and request for comments.

SUMMARY: The FHWA has forwarded the information collection request described in this notice to the Office of Management and Budget (OMB) for approval of a new (periodic) information collection. We published a Federal Register Notice with a 60-day public comment period on this information collection on October 18, 2021. We are required to publish this notice in the Federal Register by the Paperwork Reduction Act of 1995.

DATES: Please submit comments by May 5, 2022.

ADDRESSES: You may submit comments identified by DOT Docket ID Number 2022-0020 by any of the following methods:

Web site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Danielle Betkey, 202-366-9417, or David Kopacz, 708-402-0840, Office of Safety, Federal Highway Administration, Department of Transportation, 1200 New Jersey Avenue SE, Washington, DC 20590. Office hours are from 8 a.m. to 4 p.m., Monday through Friday, except Federal holidays.

SUPPLEMENTARY INFORMATION: Title: Safety Performance Target Setting: State-of-the-Practice Report.

Background: Performance management is a critical element in roadway safety and is measured by the number of lives lost and serious injuries sustained on our Nation's roadways. The State's safety performance targets help to improve data, foster transparency and accountability, and allow safety progress to be tracked at the national and State level. States use the safety performance management framework to assist them in making progress toward improving road safety through the Highway Safety Improvement Program (HSIP), which requires a data-driven, strategic approach to improving highway safety on all public roads with a focus on performance.

Per 23 CFR part 490 subpart B, States are required to set safety performance targets in the HSIP annual report. The performance measures are based on5-year rolling averages and include the following (1) number of fatalities; (2) rate of fatalities; (3) number of serious injuries; (4) rate of serious injuries; and (5) number of non-motorized fatalities and serious injuries.

FHWA shares the vision that zero fatalities on our Nation's roadways is the only acceptable goal. The State's annual safety performance targets represent an important step in helping States work toward the ultimate goal of eliminating traffic deaths and serious injuries. The safety performance targets are interim performance levels that contribute toward the progress of the long-term goal of zero fatalities.

FHWA does not prescribe a methodology for States to set their annual safety performance targets. States have the flexibility to use the methodology they deem most appropriate. FHWA encourages States to review data sets and trends and consider factors that may affect targets. The safety performance targets should be data-driven, realistic, and attainable and should align with the performance management framework and legislative intent.

Since 2016 when 23 CFR 490 went into effect, States have had the opportunity to go through several rounds of safety performance target setting. States have now set safety performance targets for calendar years (CY) 2018 through 2022 and have been assessed on the safety performance targets for CY 2018 and 2019. As States have gained more experience with target setting over the last several years, FHWA is interested in getting a better understanding of the state of the practice as it relates to safety target setting. FHWA seeks to identify how States are setting targets; what methods States are using to set targets; how States are integrating target setting into planning an programming practices; and how States are modifying their safety program in response to meeting or not meeting safety performance targets. The research will focus on identifying current practices as well as identifying gaps and noteworthy practices.

Respondents: Approximately 104 participants, which would allow for up to two participants for each of the 50 States plus the District of Columbia and Puerto Rico.

Frequency: One-time collection.

Estimated Average Burden per Response: Approximately 60 minutes.

Estimated Total Annual Burden Hours: Approximately 104 hours for a one-time collection.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued On: March 31, 2022.
Michael Howell,
Information Collection Officer.

[FR Doc. 2022-07160 Filed 4-4-22; 8:45 am]

BILLING CODE 4910-RY-P